POSTAL REGULATORY COMMISSION

Sunshine Act Meetings; Amended Notice

This is an amendment to the Sunshine Act meeting notice of the Postal Regulatory Commission published in the Federal Register of May 15, 2015 (80 FR 28015). The amendment is being made to update the agenda and contact person for the December 3, 2015, meeting.

Times and Dates: December 3, 2015, at 11 a.m.

Portions Open to the Public

1. Report from the Office of Public Affairs and Government Relations.

2. Report from the Office of the General Counsel.

3. Report from the Office of Accountability and Compliance.

4. Commissioners Vote to designate new Vice-Chairman of the Commission pursuant to 39 U.S.C. 502(e).

Contact Person for More Information: David A. Trissell, General Counsel, Postal Regulatory Commission, 901 New York Avenue NW., Suite 200, Washington, DC 20268-0001, at 202-789-6820 (for agenda-related inquiries) and Stacy L. Ruble, Secretary of the Commission, at 202-789-6800 or stacy.ruble@prc.gov (for inquiries related to meeting location, changes in date or time of the meeting, access for handicapped or disabled persons, the audiocast, or similar matters). The Commission's Web site may also provide information on changes in the date or time of the meeting.

By direction of the Commission.
Stacy L. Ruble,
Secretary.

[FR Doc. 2015-29777 Filed 11-18-15; 4:15 pm]

BILLING CODE 7710-FW-P